DEPARTMENT OF THE INTERIOR

Fish and Wildlife Service

Pelican Island National Wildlife Refuge

AGENCY: Fish and Wildlife Service, Interior.

ACTION: Notice of availability of the Draft Comprehensive Conservation Plan and Environmental Assessment for Pelican Island National Wildlife Refuge in Sebastian, Florida.

SUMMARY: The Fish and Wildlife Service announces that a Draft Comprehensive Conservation Plan and Environmental Assessment for Pelican Island National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with 15-year strategy for achieving refuge purposes and contributing toward the mission of the National Wildlife Refuge System, consistent with sound principles of fish and wildlife management, conservation, legal mandates, and Service policies. In addition to outlining broad management direction on conserving wildlife and their habitat, plans identify wildlife-dependent recreational opportunities available to the public, including opportunities for hunting, fishing, wildlife observation, wildlife photography, and environmental education and interpretation.

ADDRESSES: Requests for copies of the Draft Comprehensive Conservation Plan and Environmental Assessment should be addressed to Mr. Paul Tritaik, Refuge Manager, Pelican Island National Wildlife Refuge, 1339 20th Street, Vero Beach, Florida 32960; Telephone 772/562-3909, extension 275; Fax 772/299-3101. The draft plan and environmental assessment may be accessed and downloaded from the Service's Web site http://southeast.fws.gov/planning/.

DATES: Individuals wishing to comment on the Draft Comprehensive Conservation Plan and Environmental Assessment for Pelican Island National Wildlife Refuge should do so no later than September 26, 2005. Comments on the draft plan and environmental assessment may be submitted to Ms. Cheri Ehrhardt, Planning Team Leader, Merritt Island National Wildlife Refuge, P.O. Box 6504, Titusville, Florida 32782-6504; Telephone 321/861-2368; Fax 321/861-1276, or may be submitted via electronic mail to cheri_ehrhardt@fws.gov. Please include your name and return address in your message. Our practice is to make comments, including names and home addresses of respondents, available for public review during regular business hours. Individual respondents may requests that we withhold their home addresses from the record, which we will honor to the extent allowable by law.

SUPPLEMENTARY INFORMATION: The draft plan identifies and evaluates three alternatives for managing the refuge over the next 15 years. Under Alternative A, management would continue with programs following the same direction, emphasis, and intensity as historically occurred. No active management would address threatened and endangered species; neotropical migratory birds; shorebirds; natural and spoil islands; estuarine habitats; fish species; fish and wildlife disturbance; aquatic exotic, invasive, and nuisance species; seagrass beds; commercial operations on the refuge; and research activities occurring on the refuge. Few wildlife surveys would be conducted by the refuge. Limited management activities would address exotic, invasive, and nuisance species in transitional and upland habitats. Under Alternative A, the Kroegel Homestead would not be protected by the Fish and Wildlife Service. Further, no visitor center facility would be developed. Little or no patrol and enforcement would be provided to vulnerable archaeological sites of the refuge. Recreational activities would continue as currently offered, under the current lease with the State of Florida. Recreational activities (e.g., jet skiing and island camping) that are currently negatively impacting refuge wildlife and habitat would continue to occur under the current lease with the State of Florida. Refuge staff would continue at 6 or fewer staff members.

Under Alternative B, management activities would minimally expand. Management activities would complete shoreline restoration of Pelican Island proper, expand the buffer of Pelican Island proper in accord with current research, and conduct regular patrol and enforcement activities. Further, management activities would expand to conduct baseline surveys for neotropical migratory birds; shorebirds; exotic, invasive, and nuisance species; and native wildlife using the refuge. Special use permits would be required for all research and commercial activities on the refuge. The refuge would pursue partnerships to protect key fish and spawning and settlement sites, to limit disturbance. The refuge would enhance opportunities for passive recreative, including observing and photographing wildlife, providing environmental education opportunities through partners, and interpreting the refuge. Fishing activities would continue to occur, under the current lease with the State of Florida. Other recreational activities (e.g., jet skiing and island camping) that are currently negatively impacting refuge wildlife and habitat would continue to occur under the current lease with the State of Florida. Regular patrol and enforcement activities would help limit negative impacts to archaeological sites on the refuge. Under Alternative B, the Kroegel Homestead would not be protected by the Fish and Wildlife Service. Further, no visitor center facility would be developed. To accomplish the outlined expansions in the biological, public use, and law enforcement programs, the staff level would expand to a total of nine.

Alternative C, the preferred alternative, moderately expands refuge management activities to a level more in keeping with resources protected in the developed and developing landscape that surrounds the refuge. Under Alternative C, the biological program would expand to encompass management activities addressing rare, threatened, and endangered species; migratory birds; and wildlife diversity, including managing research projects, restoring and creating appropriate habitats, mapping key sites, collecting data, coordinating with education and management partners, and monitoring occurrences. Baseline data collection and habitat management activities would be directed towards neotropical migratory birds, shorebirds, native wildlife, and fish and wildlife disturbance. To limit wildlife and habitat disturbance and to provide better management of and protection for wildlife and habitats of the refuge, the refuge would work with the State of Florida and other governmental partners to alter existing agreements to enable the enforcement of Service regulations on all refuge managed lands and waters. Key fish spawning and settlement sites would be protected. Only compatible public use activities would be allowed to occur on all refuge owned or managed lands and waters. All uses not meeting the requirements of compatibility would be eliminated from the refuge (e.g., jet skiing and island camping). Fishing activities would include bank fishing from select upland sites. Signs, boardwalks, additional trails, and a wildlife drive would enhance existing recreational opportunities, including wildlife observation and photography and interpretation. All other activities on the refuge, such as research activities and commercial operations, would be required to obtain and maintain refuge special use permits. The refuge would work with the partners to acquire, manage, and list in the National Historic Register the Kroegel Homestead, home to the first refuge manager. The refuge would develop a modest visitor center and other visitor use facilities. Regular patrol and enforcement activities would help limit negative impacts to wildlife, habitats, historical resources, and archaeological sites of the refuges. To enable the implementation of management activities outlined under Alternative C, the refuge volunteer program would more than double from current levels and refuge staff would be expanded to eleven.

Pelican Island National Wildlife Refuge was established in 1903 by President Roosevelt “as a preserve and breeding ground for native birds” through an unnumbered Executive Order. Located across the Intracoastal Waterway from Sebastian, Florida, in Indian River County in southeastern Florida, the refuge manages over 5,400 acres of estuarine, transitional, and upland habitats supporting 14 federally listed species and 45 state listed species, as well as a wide variety of mammals, birds, reptiles and amphibians, fishes, invertebrates, and plants. Although the refuge exists in an increasingly developed landscape, it supports key fish spawning sites, a globally important juvenile sea turtle habitat, and important bird rookeries. Given its location in a transitional zone between subtropical and temperate climates, refuge supports highly diverse resident and migratory species. Over 600 wildlife species have been confirmed on the refuge with hundreds more expected to occur with more extensive surveys. Over 130 species of birds, over 200 species of fish, and 250 species of plants have been confirmed on the refuge.

Authority: This notice is published under the authority of the National Wildlife Refuge System Improvement Act of 1997, Public Law 105-57.

Dated: January 25, 2005.
Cynthia K. Dohner,
Acting Regional Director.
Editorial Note: This document was received at the Office of the Federal Register, July 22, 2005.

[FR Doc. 05-14796 Filed 7-26-05; 8:45 am]

BILLING CODE 4310-55-M